DEPARTMENT OF THE INTERIOR

Bureau of Land Management

[17XL.LLIDT03100.L17110000.DF0000.241A00; 4500109142]

Notice of Availability of Record of Decision for the Craters of the Moon National Monument and Preserve Monument Management Plan Amendment, Idaho

AGENCY: Bureau of Land Management, Interior.

ACTION: Notice of availability.

SUMMARY: The Bureau of Land Management (BLM) announces the availability of the Record of Decision (ROD) for the Approved Monument Management Plan (MMP) for the Craters of the Moon National Monument and Preserve located in south-central Idaho. The Idaho State Director signed the ROD on July 31, 2017, which constitutes the final decision of the BLM and makes the Approved MMP effective immediately.

ADDRESSES: Copies of the ROD/Approved MMP are available upon request from the Monument Manager, Shoshone Field Office, Bureau of Land Management, 400 West F St., Shoshone, ID 83352, or online at https://www.blm.gov/programs/planning-and-nepa/plans-in-development/idaho/craters-of-moon. Copies of the ROD/Approved MMP are available for public inspection at the Shoshone Field Office.

FOR FURTHER INFORMATION CONTACT: Holly Crawford, BLM Monument Manager, telephone 208-732-7200; address 400 West F Street, Shoshone, ID 83352; email hcrawford@blm.gov. Persons who use a telecommunications device for the deaf (TDD) may call the Federal Relay Service (FRS) at 1-800-877-8339 to to leave a message or question for Ms. Crawford. The FRS is available 24 hours a day, 7 days a week. You will receive a reply during normal business hours.

SUPPLEMENTARY INFORMATION: The BLM Craters of the Moon National Monument and Preserve (hereafter, Monument) Approved Management Plan Amendment and Record of Decision (MMPA/ROD) are now available. The BLM prepared this document in consultation with Cooperating Agencies and in accordance with the National Environmental Policy Act of 1969, as amended, the Federal Land Policy and Management Act of 1976, as amended (FLPMA), implementing regulations, the BLM Land Use Planning Handbook (H-1601-1), the BLM National Environmental Policy Act Handbook (H-1790-1), and other applicable law and policy, including Instruction Memorandum No. 2016-105—Land Use Planning and Environmental Policy Act Compliance within Greater Sage-Grouse Approved Resource Management Plans and Plan Amendments Decision Area.

The planning area comprises about 753,200 acres of land, which includes 275,100 acres managed by the BLM Shoshone, Burley, and Upper Snake Field Offices. Based on analysis in the Final Environmental Impact Statement (EIS) for the project, the MMP is amended and will guide livestock grazing management on BLM-managed public lands within the Monument into the future.

The Monument is part of the BLM's National Conservation Lands system and is jointly managed with the National Park Service. This Monument was created in 1924 and expanded to its current acreage in 2000.

The BLM completed a Final EIS to determine the appropriate management of livestock grazing on approximately 275,100 acres of BLM-administered lands within the Monument. This Final EIS analyzed management options not previously addressed by the 2007 MMP as amended by the 2015 Sage-Grouse Approved Resource Management Plan Amendment (ARMPA). This Approved MMPA/ROD amends the 2007 plan but will not amend the ARMPA. Among the most important decisions the BLM made through this plan amendment are which lands should be available for livestock grazing and with what protections for Greater sage-grouse and their sagebrush habitat.

The purpose of this Approved MMPA/ROD is to make the 2007 MMP's grazing management direction consistent with current laws, regulations, and policies regarding Greater sage-grouse habitat conservation. More specifically, it considers a range of FLPMA-compliant management options for livestock grazing and Greater sage-grouse on BLM-managed lands in the planning area in a manner that maintains the Monument values identified in Proclamation 7373. In addition, this Approved MMPA/ROD is needed to cure deficiencies in the 2007 MMP/EIS identified by the U.S. District Court for Idaho. The Court found that BLM had failed to adequately address current science and the agency's policies designed to protect sage-grouse habitat, primarily with regard to managing livestock grazing in the Monument.

After the 2007 MMP/EIS was signed, the Greater sage-grouse was deemed warranted for listing, but was precluded from the Threatened and Endangered Species list. More recently, the BLM completed the Greater Sage-Grouse Approved Resource Plan ARMPA for Idaho and Southwestern Montana, which resulted in a determination that listing the Greater sage-grouse was not warranted. The ARMPA amended the 2007 MMP/EIS, thereby addressing several of the deficiencies identified by the Court with regard to Greater sage-grouse conservation in the Monument.

The Final EIS for this plan amendment, prepared after release of the 2015 ARMPA, analyzed five alternatives that provide a range of livestock grazing availability and sage-grouse protections. Alternative C is the BLM's selected alternative.

Alternative A is the No Action alternative, which would continue the management established in the 2007 MMP/EIS. Under this alternative, 273,900 acres would be available for livestock grazing, with 38,187 animal unit months (AUMs) available.

Alternative B would reduce AUMs by 75 percent and close 5 areas to grazing: Little Park kipuka (an island of older land surrounded by lava flows), the North Pasture of Laidlaw Park Allotment, Larkspur Park kipuka, the North Pasture of Bowl Crater Allotment, and Park Field kipuka. This alternative would adjust two allotment boundaries and make 21,000 acres unavailable for livestock grazing for the protection of sage-grouse and other Monument values.

Alternative C, the Approved Plan, makes 273,600 acres available for livestock grazing and adjusts two allotment boundaries, which would set the maximum number of AUMs at 37,792. Where appropriate, livestock grazing will be used as a tool to improve and/or protect wildlife habitat. Guidelines for livestock grazing management will be set based on vegetation and wildlife habitat conditions and needs identified in the 2007 MMP and current agency guidance.

Alternative D would eliminate livestock grazing from BLM-managed lands within the Monument boundary and adjust two allotment boundaries. All livestock-related developments would be removed, and some fences would be required to exclude livestock from the Monument.

Alternative E would reduce AUMs by approximately 50 percent and close Larkspur Park kipuka to grazing. This alternative would adjust two allotment boundaries and make 272,800 acres available for grazing. No net gain in livestock-related infrastructure would be allowed.

The land use planning process was initiated on June 28, 2013, through a Notice of Intent published in the Federal Register (78 FR 39009), notifying the public of a formal scoping period and soliciting public participation in the planning process. Four scoping meetings were held in July 2013 in the communities of Arco, Carey, Rupert, and American Falls. During the scoping period the public provided the BLM with input on relevant issues to consider in the planning process. Based on this input and the BLM's goals and objectives, the five alternatives described above were formulated for consideration and analysis in the Draft EIS. Because Area of Critical Environmental Concern (ACEC) nominations were previously analyzed in the 2007 MMP/EIS, no new ACEC nominations were solicited during scoping.

Comments on the Draft EIS received from the public, Cooperating Agencies, and through internal BLM review were considered and incorporated as appropriate into the Proposed Plan and Final EIS, published on May 26, 2017 (82 FR 24387). Public comments on the Draft EIS resulted in the addition of clarifying text but did not significantly change proposed land use plan decisions.

Two protests were receieved on the Final EIS, and the issues raised have been resolved. As a result, only minor editorial modifications were made in preparing the Approved MMPA. These modifications provided further clarification of some of the decisions. The Idaho Governor's consistency review identified that the ARMPA is inconsistent with the State of Idaho Sage Grouse Plan but identified no inconsistences with the Approved MMPA. The Approved MMPA/ROD are in compliance with the current BLM policy on mitigation, but because the management actions are programmatic in nature, the mitigation hierarchy (avoid, minimize, or compensate) will be applied during site-specific NEPA analysis at the implementation stage following the ROD.

Authority: 40 CFR 1506.6.

Peter J. Ditton,
Acting BLM Idaho State Director.

[FR Doc. 2017-28392 Filed 1-3-18; 8:45 am]

BILLING CODE 4310-AK-P